DEPARTMENT OF AGRICULTURE

Submission for OMB Review; Comment Request

August 23, 2019.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 30, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Horse Protection Regulations.

OMB Control Number: 0579-0056.

Summary of Collection: In 1970, Congress passed the Horse Protection Act (HPA, 15 U.S.C. 1821 et seq.), which was enacted to prevent showing, exhibiting, selling, or auctioning of “sore” horses, and certain transportation of sore horses in connection therewith, at horse shows, horse exhibitions, horse sales, and horse auctions. Soring is a process whereby chemical or mechanical agents, or a combination thereof, are applied to the limbs of a horse in order to exaggerate its gait. A “sore” horse is one that has been subjected to prohibited practices and, as a result, suffers, or can reasonably be expected to suffer, physical pain or distress, inflammation, or lameness when walking, trotting or otherwise moving. A horse that is “sore” is prohibited from entering or participating in HPA-regulated events because exhibitors, owners, and trainers of such horse may obtain unfair advantage over individuals exhibiting horses that are not “sore.”

Need and Use of the Information: To carry out the Act, the Animal and Plant Health Inspection Service (APHIS) of the U.S. Department of Agriculture (USDA) administers and enforces the regulations in 9 CFR part 11. Part 11 delineates the responsibilities of horse industry organizations (HIOs), designated qualified persons (DQPs), management of regulated horse events, and persons who have control over regulated horses.

An HIO wishing to certify a program to license DQPs to inspect horses for compliance under the HPA must satisfy and abide by the requirements of the HPA and regulations. After requesting and receiving USDA certification from APHIS, HIOs must maintain an acceptable DQP program and recordkeeping systems. Managers and operators of HPA-regulated events may appoint and retain the services of DQPs to inspect and detect a horse that is sore or otherwise noncompliant with the HPA, and both managers and DQPs are required to provide and/or maintain certain information. Persons who own, train, show, exhibit, sell, transport, or otherwise have custody of, or direction or control over any horse shown, exhibited, sold, or auctioned or entered for the purpose of being shown, exhibited, sold, or auctioned at any horse show, horse exhibition, or horse sale or auction must also satisfy and abide by the requirements of the HPA and regulations.

APHIS works with HIOs on an ongoing basis to oversee their performance under the HPA. Throughout the year, APHIS uses training sessions, conference calls, and open letters to HIOs, event managers, exhibitors, owners, trainers, custodians, and farriers involved in HPA-covered activities to provide communication and feedback to address issues and strengthen enforcement under the Act. Data collected throughout the year from within APHIS and from the HIOs and event management provide an account of the HIOs' performance and progress toward eliminating the soring of horses and promoting fair competition. HIOs, through their certified licensing programs for DQPs, provide the primary means of detecting sored horses.

Description of Respondents: Business or other for-profit; Individuals and households.

Number of Respondents: 2,004.

Frequency of Responses: Recordkeeping; Reporting.

Total Burden Hours: 3,374.

Ruth Brown,
Departmental Information Collection Clearance Officer.

[FR Doc. 2019-18603 Filed 8-28-19; 8:45 am]

BILLING CODE 3410-34-P